Title 3—

The President

Proclamation 7772 of April 16, 2004

National Park Week, 2004

By the President of the United States of America

A Proclamation

Our system of national parks is entrusted to each generation of Americans. By practicing good management and being faithful stewards of the land, our generation can show that we are worthy of that trust. During National Park Week, we renew our commitment to caring for these treasured natural resources.

God designed our lands to be beautiful, but we must ensure God's beauty is maintained and conserved. Our citizens depend on our dedicated National Park Service employees and their volunteer partners to fulfill this important mission. In 2001 and 2002, volunteers contributed millions of hours of service to our parks by clearing trails, repairing facilities, leading education programs, and assisting visitors. This year's National Park Week theme, “Partners in Stewardship,” encourages all Americans to join these volunteer partners in helping to look after our nearly 400 national park areas.

The Federal Government is investing more in its national parks now than at any time in its history. To help restore our national parks, my Administration proposed $4.9 billion in funding over 5 years on needed maintenance and repairs. We have undertaken hundreds of vital park maintenance projects and are planning and executing hundreds more. We are also using a new system of inventory and assessment to identify facilities needing improvements and to measure those improvements as they are implemented.

Our citizens own America's parks, historic sites, battlefields, recreation areas, monuments, and shores, and we want these lands to be accessible and enjoyable for them to visit. We must respect our natural, cultural, and recreational heritage and conserve our parks for future generations. Park maintenance is critical to achieving each of these goals. By modernizing trail systems, we make it possible for people to fully appreciate these remarkable places. By maintaining buildings, roads, and campsites, we ensure our parks remain sources of pride for our citizens, our communities, and our Nation.

NOW, THEREFORE, I, GEORGE W. BUSH, President of the United States of America, by virtue of the authority vested in me by the Constitution and laws of the United States, do hereby proclaim April 18 through April 25, 2004, as National Park Week. I call upon the people of the United States to join me in recognizing the importance of our national parks and to learn more about these areas of beauty, their cultural and historical significance, and the many ways citizens can volunteer to conserve these precious resources.

IN WITNESS WHEREOF, I have hereunto set my hand this sixteenth day of April, in the year of our Lord two thousand four, and of the Independence of the United States of America the two hundred and twenty-eighth.

B

[FR Doc. 04-9206

Filed 4-20-04;9:43 am]

Billing code 3195-01-P